DEPARTMENT OF THE TREASURY

Office of Foreign Assets Control

Additional Designation of Individuals and Entities Pursuant to Executive Order 12978

AGENCY: Office of Foreign Assets Control, Treasury.

ACTION: Notice.

SUMMARY: The Treasury Department's Office of Foreign Assets Control (“OFAC”) is publishing the names of 15 newly-designated individuals and entities whose property and interests in property are blocked pursuant to Executive Order 12978 of October 21, 1995, “Blocking Assets and Prohibiting Transactions with Significant Narcotics Traffickers.”

DATES: The designation by the Director of the Office of Foreign Assets Control of the 15 individuals and entities identified in this notice pursuant to Executive Order 12978 is effective on February 12, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On February 12, 2008, the Director of the Office of Foreign Assets Control, in consultation with the Attorney General and Secretary of State, as well as the Secretary of Homeland Security, designated 15 individuals and entities whose property and interests in property are blocked pursuant to the Order.

The list of additional designees is as follows:

1. ADMINISTRADORA GANADERA EL 45 LTDA., Carrera 49 No. 61Sur-540 Bod. 137, Medellin, Colombia; Carrera 49A No. 48S-60 Bod. 102, Medellin, Colombia; NIT # 811038291-3 (Colombia) [SDNT]

2. CARRILLO LUNA, Andres Felipe, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o SOCIEDAD MINERA GRIFOS S.A., El Bagre, Antioquia, Colombia; Calle 10C No. 25-41, Medellin, Colombia; Carrera 78A No. 33A-76, Medellin, Colombia; 801 Brickell Key Blvd., unit 1907, Miami, FL 33131; DOB 25 May 1986; alt. DOB 24 May 1986; POB Puerto Asis, Putumayo, Colombia; Cedula No. 1037572288 (Colombia); Passport AJ723916 (Colombia); alt. Passport RC10058210 (Colombia) (individual) [SDNT]

3. CARRILLO LUNA, Paula Andrea, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o SOCIEDAD MINERA GRIFOS S.A., El Bagre, Antioquia, Colombia; Carrera 78A No. 33A-76, Medellin, Colombia; 13315 SW 128 Passage, Miami, FL 33186; DOB 25 Dec 1983; POB Puerto Asis, Putumayo, Colombia; Cedula No. 32244809 (Colombia); Passport AJ775569 (Colombia) (individual) [SDNT]

4. CASA DEL GANADERO S.A., Almacen Troncal Principal la Costa Jardin, Caceres, Antioquia, Colombia; Carrera 49A No. 61Sur-540 Bod. 137, Medellin, Colombia; Carrera 49A No. 48Sur-60 Bod. 102, Medellin, Colombia; NIT # 811034345-4 (Colombia) [SDNT]

5. GALEANO RESTREPO, Diego Mauro, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o INVERSIONES LICOM LTDA., Medellin, Colombia; DOB 17 Mar 1976; POB Medellin, Colombia; Cedula No. 98626113 (Colombia) (individual) [SDNT]

6. GANADERIA LUNA HERMANOS LTDA., Carrera 49 No. 61Sur-540, Medellin, Colombia; Carrera 49A No. 48S-60 Bod. 102, Medellin, Colombia; NIT # 811045931-8 (Colombia) [SDNT]

7. INVERSIONES EL MOMENTO S.A., Carrera 49 No. 61Sur-540, Medellin, Colombia; Carrera 49A No. 48S-60 Bod. 102, Medellin, Colombia; NIT # 811030776-7 (Colombia) [SDNT]

8. INVERSIONES LICOM LTDA. (a.k.a. RESTAURANTE ANGUS BRANGUS), Carrera 42 No. 34-15, Medellin, Colombia; Carrera 45 No. 54-56, Via las Palmas, Medellin, Colombia; NIT # 811038211-4 (Colombia) [SDNT]

9. JIMENEZ NARANJO, Carlos Mario (a.k.a. “Macaco”), Calle 10C No. 25-45, Medellin, Colombia; DOB 26 Feb 1966; POB Envigado, Antioquia, Colombia; Cedula No. 71671990 (Colombia); Passport AH521672 (Colombia); alt. Passport AE915378 (Colombia) (individual) [SDNT]

10. JIMENEZ NARANJO, Roberto, c/o CASA DEL GANADERO S.A., Medellin, Colombia; c/o TEJAR LA MOJOSA S.A., Caucasia, Antioquia, Colombia; DOB 18 Apr 1963; Cedula No. 18502967 (Colombia) (individual) [SDNT]

11. LONDONO VASQUEZ, Marco Julio, c/o ADMINISTRADORA GANADERA EL 45 LTDA., Medellin, Colombia; c/o CASA DEL GANADERO S.A., Medellin, Colombia; c/o INVERSIONES EL MOMENTO S.A., Medellin, Colombia; c/o SOCIEDAD MINERA GRIFOS S.A., El Bagre, Antioquia, Colombia; Carrera 63B No. 42-50, Medellin, Colombia; DOB 04 Dec 1955; POB Fredonia, Antioquia, Colombia; Cedula No. 15345634 (Colombia); Passport AG062408 (Colombia) (individual) [SDNT]

12. LUNA CORDOBA, Rosa Edelmira, c/o ADMINISTRADORA GANADERA EL 45 LTDA., Medellin, Colombia; c/o CASA DEL GANADERO S.A., Medellin, Colombia; c/o ELECTROMUEBLES DEL BAJO CAUCA, Medellin, Colombia; c/o GANADERIA LUNA HERMANOS LTDA., Medellin, Colombia; c/o INVERSIONES EL MOMENTO S.A., Medellin, Colombia; c/o INVERSIONES LICOM LTDA., Medellin, Colombia; c/o SOCIEDAD MINERA GRIFOS S.A., El Bagre, Antioquia, Colombia; Calle 10E No. 25-41, Medellin, Colombia; Carrera 42 No. 34-15, Medellin, Colombia; 801 Brickell Key Blvd., unit 1907, Miami, FL 33131; 13315 SW 128 Passage, Miami, FL 33186; DOB 18 Sep 1960; POB Puerto Asis, Putumayo, Colombia; Cedula No. 41101742 (Colombia); Passport AK031225 (Colombia) (individual) [SDNT]

13. OSSA AYALA, Alvaro Javier, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o INVERSIONES LICOM LTDA., Medellin, Colombia; c/o SOCIEDAD MINERA GRIFOS S.A., El Bagre, Antioquia, Colombia; Cedula No. 98528421 (Colombia) (individual) [SDNT]

14. SOCIEDAD MINERA GRIFOS S.A., Avenida Rodrigo Mira Calle 53 Cras. 49 y 45, El Bagre, Antioquia, Colombia; Carrera 43 No. 1A Sur-29, Medellin, Colombia; NIT # 811033869-7 (Colombia) [SDNT]

15. TEJAR LA MOJOSA S.A., Corregimiento Piemonte, Vereda la Mojosa, Caceres, Antioquia, Colombia; Transversal 13 No. 20C-35, Caucasia, Antioquia, Colombia; NIT # 900110438-9 (Colombia) [SDNT]

Dated: February 12, 2008.
Adam J. Szubin,
Director, Office of Foreign Assets Control.

[FR Doc. E8-3778 Filed 2-27-08; 8:45 am]

BILLING CODE 4811-45-P